DEPARTMENT OF COMMERCE

International Trade Administration

[A-507-502]

Certain In-Shell Raw Pistachios From Iran: Extension of Time Limit for Final Results of Antidumping Duty Administrative Review

AGENCY: Import Administration, International Trade Administration, Department of Commerce.

EFFECTIVE DATES: December 2, 2004.

SUMMARY: The U.S. Department of Commerce (the Department) is extending the time limit, from December 7, 2004, until no later than February 7, 2005, for the final results of the administrative review of the antidumping duty order on certain in-shell raw pistachios (pistachios) from Iran. The period of review (POR) is July 1, 2002, through June 30, 2003. This extension is made pursuant to section 751(a)(3)(A) of the Tariff Act of 1930, as amended (the Act).

FOR FURTHER INFORMATION CONTACT: Angelica Mendoza at (202) 482-3019; AD/CVD Operations, Office 7, Import Administration, International Trade Administration, U.S. Department of Commerce, 1401 Constitution Avenue, NW., Washington, DC 20230.

SUPPLEMENTARY INFORMATION:

Background

On July 2, 2003, the Department published a notice of opportunity to request an administrative review of the antidumping duty order on pistachios from Iran, 68 FR 39511. On July 30, 2003, Tehran Negah Nima Trading Company, Inc. (Nima), an exporter of subject merchandise during the period of review, requested that the Department conduct an administrative review of its sales to the United States covered by the antidumping duty order. On August 22, 2003, the Department initiated an administrative review of the antidumping duty order on pistachios from Iran for the period July 1, 2002, through June 30, 2003, in order to determine whether merchandise imported into the United States was sold at less than fair value by Nima. See Initiation of Antidumping and Countervailing Duty Administrative Review and Requests for Revocations in Part, 68 FR 50750.

On February 5, 2004, the Department extended fully its deadline for the preliminary results of this review. See Certain In-Shell Raw Pistachios from Iran; Extension of Time Limit for Preliminary Results of Administrative Review, 69 FR 5487.

On August 9, 2004, the Department published the preliminary results of this review (69 FR 48197).

Extension of Time Limit for Final Results

Pursuant to section 751(a)(3)(A) of the Act, the Department may extend the deadline for completion of the final results of an administrative review if it determines that it is not practicable to complete the final results within the statutory time limit of 120 days from the date on which the preliminary results were published. The Department has determined that due to the complexity of the issues in this review, including (1) whether the producer of the subject merchandise (i.e., Razi Domghan Agricultural and Animal Husbandry Company) had known or should have known that the pistachios it sold to Nima were destined for the United States, and (2) the calculation of profit for purposes of constructed value, it is not practicable to complete this review within the time limits mandated by section 751(a)(3)(A) of the Act and section 19 CFR 351.213(h)(1) of the Department's regulations. Therefore, the Department is extending the time limit for the completion of these final results by 60 days. Accordingly, the final results of this review will now be due no later than February 7, 2005.¹

¹ Because the final results are due February 5, 2005 (a non-business day), we will issue the final results no later than the next business day (i.e., February 7, 2005).

This notice is published in accordance with section 751(a)(3)(A) of the Act and section 19 CFR 351.213(h)(2) of the Department's regulations.

Dated: November 26, 2004.
Gary Taverman,
Acting Deputy Assistant Secretary for Import Administration.

[FR Doc. E4-3448 Filed 12-1-04; 8:45 am]

BILLING CODE 3510-DS-P